FEDERAL COMMUNICATIONS COMMISSION

47 CFR Parts 1 and 63

[MD Docket No. 20-64; FCC 20-16; FRS 16561]

Closure of FCC Lockbox 979093 Used to File Fees for Services Provided by the International Bureau

AGENCY: Federal Communications Commission.

ACTION: Final rule.

SUMMARY: In this document, the Federal Communications Commission (FCC or Commission) adopts an Order that closes Lockbox 979093 and modifies the relevant rule provisions to require electronic filing and fee payments.

DATES: Effective April 27, 2020.

FOR FURTHER INFORMATION CONTACT: Warren Firschein, Office of Managing Director at (202) 418-2653 or Roland Helvajian, Office of Managing Director at (202) 418-0444.

SUPPLEMENTARY INFORMATION: This is a summary of the Commission's Order, FCC 20-16, MD Docket No. 20-64, adopted on February 26, 2020 and released on March 4, 2020. The full text of this document is available for public inspection and copying during normal business hours in the FCC Reference Center (Room CY-A257), 445 12th Street SW, Washington, DC 20554, or by downloading the text from the Commission's website at https://www.fcc.gov/document/closure-lockbox-used-services-provided-international-bureau.

I. Procedural Matters

A. Final Regulatory Flexibility Analysis

1. Section 603 of the Regulatory Flexibility Act, as amended, requires a regulatory flexibility analysis in notice and comment rulemaking proceedings. See 5 U.S.C. 603(a). As we are adopting these rules without notice and comment, no regulatory flexibility analysis is required.

B. Final Paperwork Reduction Act of 1995 Analysis

2. This document does not contain new or modified information collection requirements subject to the Paperwork Reduction Act of 1995 (PRA), Pub. Law 104-13. In addition, therefore, it does not contain any new or modified information collection burden for small business concerns with fewer than 25 employees, pursuant to the Small Business Paperwork Relief Act of 2002, Pub. Law 107-198, see 44 U.S.C. 3506(c)(4).

C. Congressional Review Act

3. The Commission will not send a copy of the Order pursuant to the Congressional Review Act, see 5 U.S.C. 801(a)(1)(A), because the adopted rules are rules of agency organization, procedure, or practice that do not “substantially affect the rights or obligations of non-agency parties. See 5 U.S.C. 804(3)(C).

II. Introduction

4. In the Order, we reduce expenditures by the Commission and modernize procedures by amending § 1.1107 of our rules, 47 CFR 1.1107, which sets forth the application fees for services administered by the FCC's International Bureau (IB). The rule amendment reflects the closure of the lockbox (P.O. Box) ¹ used for such manual payment of filing fees for thirteen types of IB services: (1) International Fixed Public Radio; (2) Section 214 Applications; (3) Fixed Satellite Transmit/Receive Earth Stations; (4) Fixed Satellite Transmit/Receive Earth Stations (2 meters or less operating in the 4/6 GHz frequency band); (5) Receive Only Earth Stations; (6) Fixed Satellite Very Small Aperture Terminal (VSAT) Systems; (7) Mobile Satellite Earth Stations; (8) Space Stations (Geostationary); (9) Space Stations (NGSO); (10) Direct Broadcast Satellites; (11) International Broadcast Stations; (12) Permit to Deliver Programs to Foreign Broadcast Stations; and (13) Recognized Operating Agency. We discontinue the option of manual fee payments and instead require the use of an electronic payment for each service listed above.

¹ A P.O. Box used for the collection of fees is referred to as a “lockbox” in our rules and other Commission documents. The FCC collects application processing fees using a series of P.O. Boxes located at U.S. Bank in St. Louis, Missouri. See 47 CFR 1.1101-1.1109 (setting forth the fee schedule for each type of application remittable to the Commission along with the correct lockbox).

5. Section 1.1107 of the Commission's rules, 47 CFR 1.1107, provides a schedule of application fees for proceedings handled by IB. The rule had also directed filers that do not utilize the Commission's on-line filing and fee payment systems to send manual payments to P.O. Box 979093 at U.S. Bank in St. Louis, Missouri. In recent years, there have been a decreasing number of lockbox filers, and it now is rare that the Commission receives a lockbox payment.

6. The Commission has begun to reduce its reliance on P.O. Boxes for the collection of fees, instead encouraging the use of electronic payment systems for all application and regulatory fees and closing certain lockboxes. We find that electronic payment of fees for the services processed by IB reduces the agency's expenditures (including eliminating the annual fee for the bank's services) and the cost of manually processing each transaction, with little or no inconvenience to the Commission's regulatees, applicants, and the public.

7. As part of this effort, we are now closing P.O. Box 979093 and modifying the relevant rule provision that requires payment of fees via the closed P.O. Box. In addition, we make minor modifications to reflect the replacement of the International Bureau Filing System (IBFS) with a new system, MyIBFS. Finally, we make a minor adjustment to rule § 1.10006 to reflect that applications for which an electronic form is not available must now be filed through the Electronic Comment Filing System (ECFS) solely in PDF format until new forms are introduced. The rule changes are contained in the Appendix of the Order and the Final Rules of this document. We make these changes without notice and comment because they are rules of agency organization, procedure, or practice exempt from the general notice-and-comment requirements of the Administrative Procedure Act, see 5 U.S.C. 553(b)(A).

8. Implementation. As a temporary transition measure, for 90 days after publication of this document in the Federal Register, U.S. Bank will continue to process payments to P.O. Box 979093. After that date, payments for these IB services must be made in accordance with the procedures set forth on the Commission's website, https://www.fcc.gov/licensing-databases/fees/application-processing-fees (International Bureau Fee Filing Guide). For now, such payments will be made through the Fee Filer Online System (Fee Filer), accessible at https://www.fcc.gov/licensing-databases/fees/fee-filer. As we assess and implement U.S. Treasury initiatives toward an all-electronic payment system, we may transition to other secure payment systems with appropriate public notice and guidance.

III. Ordering Clauses

9. Accordingly, it is ordered, that pursuant to sections 4(i), 4(j), 158, 208, and 224 of the Communications Act of 1934, as amended, 47 U.S.C. 154(i), 154(j), 158, 208, and 224, the Order is hereby adopted and the rules set forth in the Appendix of the Order are hereby amended effective April 27, 2020.

List of Subjects

47 CFR Part 1

Administrative practice and procedure.

47 CFR Part 63

Cable television, Communications common carriers, Radio, Reporting and recordkeeping requirements, Telegraph, Telephone.

Federal Communications Commission.
Cecilia Sigmund,
Federal Register Liaison Officer, Office of the Secretary.

Final Rules

For the reasons discussed in the preamble, the Federal Communications Commission amends 47 CFR parts 1 and 63 as follows:

PART 1—PRACTICE AND PROCEDURE

1. The authority citation for part 1 continues to read as follows:

Authority: 47 U.S.C. chs. 2, 5, 9, 13; 28 U.S.C. 2461 note, unless otherwise noted.

2. Amend § 1.1107 by revising the introductory text to read as follows:

§ 1.1107 Schedule of charges for applications and other filings for the international services.

Remit payment for these services electronically using the Commission's electronic payment system in accordance with the procedures set forth on the Commission's website, www.fcc.gov/licensing-databases/fees.

* * * * *

3. Amend § 1.10001 by revising the definition of “All other applications” to read as follows:

§ 1.10001 Definitions.

All other applications. We consider all other applications officially filed once you file the application in the International Bureau Filing System (MyIBFS) and applicable filing fees are received and approved by the FCC, unless the application is determined to be fee-exempt. We determine your official filing date based on one of the following situations:

(1) You file your Satellite Space Station Application or your Application for Earth Stations to Access a Non-U.S. Satellite Not Currently Authorized to provide the Proposed Service in the Proposed Frequencies in the United States in MyIBFS | Your official filing date is the date and time (to the millisecond) you file your application and receive a confirmation of filing and submission ID.
(2) You file all other applications in MyIBFS and then do one of the following: | Your official filing date is:
(i) Pay by online Automatic Clearing House (ACH) payment, online Visa, MasterCard, American Express, or Discover credit card payment, or wire transfer payment denominated in U.S. dollars and drawn on a United States financial institution and made payable to the Federal Communications Commission (through MyIBFS) | The date your online payment is approved. (Note: You will receive a remittance ID and an authorization number if your transaction is successful).
(ii) Determine your application type is fee-exempt or your application qualifies for exemption to charges as provided in this part | The date you file in MyIBFS and receive a confirmation of filing and submission ID.

* * * * *

4. Revise § 1.10006 to read as follows:

§ 1.10006 Is electronic filing mandatory?

Electronic filing is mandatory for all applications for international and satellite services for which an International Bureau Filing System (MyIBFS) form is available. Applications for which an electronic form is not available must be filed through the Electronic Comment Filing System (ECFS) in PDF format until new forms are introduced. See §§ 63.20 and 63.53 of this chapter. As each new MyIBFS form becomes available for electronic filing, the Commission will issue a public notice announcing the availability of the new form and the effective date of mandatory filing for this particular type of filing. As each new form becomes effective, manual filings will not be accepted by the Commission and the filings will be returned to the applicant without processing. Mandatory electronic filing requirements for applications for international and satellite services are set forth in this part and parts 25, 63, and 64 of this chapter. A list of forms that are available for electronic filing can be found on the MyIBFS homepage. For information on electronic filing requirements, see §§ 1.1000 through 1.10018 and the MyIBFS homepage at http://licensing.fcc.gov/myibfs.

5. Amend § 1.10007 by revising paragraph (a) to read as follows:

§ 1.10007 What applications can I file electronically?

(a) For a complete list of applications or notifications that must be filed electronically, log in to the MyIBFS website at http://licensing.fcc.gov/myibfs.

* * * * *

6. Amend § 1.10009 by revising paragraphs (c)(2)(i), (e)(1)(iii), (e)(2), (e)(3)(i) and (ii), and (e)(4), removing paragraph (e)(5), redesigning paragraph (e)(6) as paragraph (e)(5), revising newly redesignated paragraph (e)(5), and removing paragraph (e)(7) to read as follows:

§ 1.10009 What are the steps for electronic filing?

* * * * *

(c) * * *

(2) * * *

(i) The referenced information is filed in MyIBFS.

* * * * *

(e) * * *

(1) * * *

(iii) You can run a draft electronic submission of payment online form through MyIBFS, in association with a filed application, and the system will automatically enter your required fee on the form.

(2)(i) A complete FCC electronic submission of payment online form must accompany all fee payments. You must provide the FRN for both the applicant and the payer. You also must include your International Bureau (IB) submission ID number on the electronic submission of payment online form in the box labeled “FCC Code 2.” In addition, for applications for transfer of control or assignment of license, call signs involved in the transaction must be entered into the “FCC Code 1” box on the FCC electronic submission of payment online form. (This may require the use of multiple rows on the electronic submission of payment online form for a single application where more than one call sign is involved.)

(ii) You can generate a pre-filled FCC electronic submission of payment online form from MyIBFS using your IB submission ID. For specific instructions on using MyIBFS to generate your FCC electronic submission of payment online form, go to the MyIBFS website (http://licensing.fcc.gov/myibfs) and click on the “Getting Started” button.

(3) * * *

(i) Pay by credit card (through MyIBFS);

(ii) Pay by online Automatic Clearing House (ACH) payment; or

* * * * *

(4) You must electronically submit payment on the date you file your application in MyIBFS. If not, we will dismiss your application.

(5) For more information on fee payments, refer to Payment Instructions found on the MyIBFS internet site at http://licensing.fcc.gov/myibfs, under the Using IBFS link.

7. Revise § 1.10010 to read as follows:

§ 1.10010 Do I need to send paper copies with my electronic applications?

When you file electronically through MyIBFS, the electronic record is the official record. You do not need to submit paper copies of your application.

8. Amend § 1.10011 by revising paragraphs (a) through (c) and (d) introductory text to read as follows:

§ 1.10011 Who may sign applications?

(a) The Commission only accepts electronic applications. An electronic application is “signed” when there is an electronic signature. An electronic signature is the typed name of the person “signing” the application, which is then electronically transmitted via MyIBFS.

(b) For all electronically filed applications, you (or the signor) must actually sign a paper copy of the application, and keep the signed original in your files for future reference.

(c) You only need to sign the original of applications, amendments, and related statements of fact.

(d) Sign applications, amendments, and related statements of fact as follows:

* * * * *

9. Amend § 1.10015 by revising paragraph (b) to read as follows:

§ 1.10015 Are there exceptions for emergency filings?

* * * * *

(b) Emergency authorizations stop at the end of emergency periods or wars. After the emergency period or war, you must submit your request by filing the appropriate form electronically.

* * * * *

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

10. The authority citation for part 63 continues to read as follows:

Authority: 47 U.S.C. 151, 154(i), 154(j), 160, 201-205, 214, 218, 403, 571, unless otherwise noted.

11. Amend § 63.53 by revising paragraph (a) to read as follows:

§ 63.53 Form.

(a) Applications for international service under section 214 of the Communications Act must be filed electronically with the Commission. Subject to the availability of electronic forms, all applications and other filings described in this section must be filed electronically through the International Bureau Filing System (MyIBFS). A list of forms that are available for electronic filing can be found on the MyIBFS homepage. For information on electronic filing requirements, see §§ 1.10000 through 1.10018 of this chapter and the MyIBFS homepage at http://www.fcc.gov/ibfs. See also § 63.20.

* * * * *

[FR Doc. 2020-05800 Filed 3-26-20; 8:45 am]

BILLING CODE 6712-01-P